DEPARTMENT OF THE INTERIOR

Office of the Secretary

[Docket No. DOI-2025-0005; 256D0102DM; DS6CS00000; DLSN00000.000000; DX6CS25]

Regulatory Reform

AGENCY: Office of the Secretary, Interior.

ACTION: Request for Information (RFI).

SUMMARY: The U.S. Department of the Interior (DOI) seeks comments and information to assist DOI, including the Bureaus and Offices established within DOI, in identifying existing regulations that can be modified or repealed, consistent with applicable law, to ensure that DOI administrative actions do not undermine the national interest and that DOI achieves a meaningful reduction in regulatory burdens while continuing to meet statutory obligations, advance American energy independence, and ensure the responsible stewardship of the Nation's public lands and resources. This RFI is part of DOI's implementation of recent directives from the President, including Executive orders, which seek to deconstruct the regulatory burden that has been self-imposed on our Nation's interests and improve the relevant processes to establish a more efficient regulatory program at DOI.

DATES: Written comments and information are requested on or before June 20, 2025, which may be extended, through publication of a notice in the Federal Register, for no more than 90 days.

ADDRESSES: Interested persons should submit ideas for cutting existing regulations within the jurisdiction of DOI via https://www.regulations.gov/deregulation and are also encouraged to submit comments, identified by “DOI Regulatory Reform RFI,” by any of the following methods:

Federal eRulemaking Portal: https://www.regulations.gov. Follow the instructions for submitted comments to DOI-2025-0005, which is the docket established for this RFI.

Email: Interior.RegulatoryInfo@doi.gov. Include “DOI Regulatory Reform RFI” in the subject line of the message.

Mail: U.S. Department of the Interior, Office of the Solicitor, 1849 C Street NW, Washington, DC 20240.

All comments received will be posted without change to https://www.regulations.gov, including any personal information provided.

Electronic Access and Filing

This document and all comments received may be viewed online through the Federal eRulemaking portal at https://www.regulations.gov using the docket number listed above. Electronic retrieval help and guidelines are also available at https://www.regulations.gov. An electronic copy of this document may also be downloaded from the Office of the Federal Register's website at www.FederalRegister.gov and the U.S. Government Publishing Office's website at www.GovInfo.gov. All comments received before the close of business on the comment closing date indicated above will be considered and will be available for examination in the docket at the above address. Comments received after the comment closing date will be filed in the docket and will be considered to the extent practicable.

FOR FURTHER INFORMATION CONTACT: Jacob Tyner, U.S. Department of the Interior, Office of the Solicitor, 1849 C Street NW, Washington, DC 20240. Telephone: (202) 208-3100. Email: Interior.RegulatoryInfo@doi.gov.

SUPPLEMENTARY INFORMATION: On his first day in office, the President Trump made clear that it is in the national interest to unleash America's affordable and reliable energy and natural resources through Executive Order (E.O.) 14154, “Unleashing American Energy” (90 FR 8353; Jan. 29, 2025). Through E.O. 14154, the President established that it is the policy of the United States to, among other policies, “ensure that all regulatory requirements related to energy are grounded in clearly applicable law” and “promote sound regulatory decision making and prioritize the interests of the American people.”

E.O. 14154 required that the heads of all agencies review all applicable agency actions to identify those agency actions that “impose an undue burden on the identification, development, or use of domestic energy resources . . . or that are otherwise inconsistent with the policy set forth in” E.O. 14154 and to develop and begin implementing action plans to suspend, revise, or rescind all agency actions identified as unduly burdensome . . . as expeditiously as possible and consistent with applicable law.”

On February 3, 2025, the Secretary of the Interior issued Secretary's Order No. 3418, which implements the requirements of E.O. 14154. Indeed, it directed all Assistant Secretaries to “promptly review all agency actions” and submit to the Secretary an action plan to consider how to comply with the policy described in section 3 of E.O. 14154. The President then issued E.O. 14192, “Unleashing Prosperity through Deregulation” (90 FR 9065; Feb. 6, 2025), on January 31, 2025, which states that it is the policy of the executive branch to be prudent and financially responsible in the expenditure of funds, from both public and private sources, and to alleviate unnecessary regulatory burdens placed on the American people.

E.O. 14192 also requires that for fiscal year 2026, and each fiscal year thereafter, the head of each agency identify, on an aggregated basis, for regulations that increase incremental cost, offsetting regulations and provide the agency's best approximation of the total costs or savings associated with each new regulation or repealed regulation. The President further established that it is the policy of the Administration to focus the executive branch's limited enforcement resources on regulations explicitly authorized by constitutional Federal statutes and commence the deconstruction of the overbearing and burdensome administrative state through E.O. 14219, “Ensuring Lawful Regulation and Implementing the President's `Department of Government Efficiency' Deregulatory Agenda” (90 FR 10583; Feb. 25, 2025), and requires that agencies identify and report to the Office of Information and Regulatory Affairs (OIRA) on regulations in one of several categories.

To implement the relevant directives from the Administration, DOI is taking two immediate steps:

1. As described in the next section, DOI is issuing this RFI seeking public comment on ways to achieve a meaningful reduction in regulatory burdens while continuing to achieve DOI's legal obligations, mission, and regulatory objectives.

2. DOI has created an email inbox at Interior.RegulatoryInfo@doi.gov, which interested parties can use to identify to DOI—on a continuing basis—existing regulations that they believe can be modified or repealed, consistent with law. Any comments received will be placed in the docket for this RFI on https://www.regulations.gov. Together, these steps will help DOI ensure it acts in a lawful, prudent, and financially responsible manner in the expenditure of funds, from both public and private sources, and manages appropriately the costs associated with private expenditures required for compliance with DOI regulations.

Request for Information

For the purposes of this RFI, the term “regulations” includes, but is not limited to, any rules, regulations, guidance, paperwork requirements, processes, including methodology and modeling, or DOI-imposed regulatory or administrative requirements that inhibit DOI's ability to implement the Administration's policies and directives described herein.

Pursuant to those directives, DOI is, through this RFI, seeking input, as permitted by law, with respect to the appropriateness of its regulatory requirements from the public, particularly entities significantly affected by administrative actions of DOI, including State, local, and tribal governments; small businesses; consumers; non-governmental organizations; and other relevant entities.

DOI's goal is to create a systematic method for receiving public comment regarding existing DOI regulations that are inconsistent with law or Administration policy, as described in the relevant directives from the Administration, including regulations that are obsolete, unnecessary, unjustified, or simply no longer make sense. Consistent with DOI's commitment to public participation in the rulemaking process, DOI is soliciting views from the public on specific regulations that should be altered or eliminated.

Members of the public are likely to have useful information and perspectives on the benefits and burdens of existing requirements and how regulatory obligations may be updated, streamlined, revised, or repealed to better achieve DOI's legal obligations, mission, and policy and regulatory requirements, while minimizing the associated burdens, consistent with applicable law. Interested parties may also be well-positioned to identify those regulations that are most in need of reform, and, thus, assist DOI in prioritizing and properly tailoring its review process.

DOI also seeks comments on DOI regulations that may be inconsistent with:

1. E.O. 14153, “Unleashing Alaska's Extraordinary Resource Potential” (90 FR 8347);

2. E.O. 14156, “Declaring a National Energy Emergency” (90 FR 8433);

3. E.O. 14213, “Establishing the National Energy Dominance Council” (90 FR 9945);

4. E.O. 14224, “Immediate Expansion of American Timber Production” (90 FR 11365);

5. E.O. 14241, “Immediate Measures to Increase American Mineral Production” (90 FR 13673);

6. E.O. 14260, “Protecting American Energy from State Overreach” (90 FR 15513);

7. E.O. 14261, “Reinvigorating America's Beautiful Clean Coal Industry and Amending E.O. 1424” (90 FR 15517);

8. E.O. 14267, “Reducing Anti-Competitive Regulatory Barriers” (90 FR 15629);

9. E.O. 14270, “Zero-Based Regulatory Budgeting to Unleash American Energy” (90 FR 14643); or

10. Any other executive action issued by the President that furthers the purpose of this RFI.

List of Questions for Commenters

To allow DOI to evaluate suggestions more effectively, DOI is requesting that commenter provide, to the extent possible:

• A succinct summary of the commenter's proposal, including responses to the questions described below and describing the appliable Bureau(s) or Offices(s) that would implement the proposal;

• Supporting data or other information such as cost information; and

• Specific suggestions regarding repeal, replacement, or modification.

The following list of questions will help assist with DOI's identification of regulations. This non-exhaustive list is meant to assist in the formulation of comments and is not intended to restrict the issues that may be addressed. In addressing these questions or others, DOI requests that commenters identify with specificity the regulation at issue, providing legal citations where available. DOI also requests that the submitter provide, in as much detail as possible, an explanation of why a regulation, guidance, or reporting requirement should be modified, streamlined, or repealed, as well as specific suggestions of ways DOI can do so while achieving its legal obligations, mission, and policy and regulatory requirements. Submitters are encouraged to provide economic data to demonstrate the cost of complying with existing regulations, as well as the savings that a change might provide.

1. Are there any regulations commenters can identify that fall within the seven categories outlined in E.O. 14219? If so, how does any particular regulation fall within one or more of those categories? Would repeal or modification (and if so, please describe what modification) advance the policies of the order, consistent with law?

2. Are there regulations that simply make no sense or have become unnecessary, ineffective, or ill-advised? If so, please identify them. Are there regulations that can be repealed without impairing DOI's ability to comply with its statutory obligations? If so, please identify them.

3. Are there regulations that have become outdated and, if so, how can they be modernized to better accomplish their objectives?

4. Are there regulations that are still necessary, but have not operated as well as expected such that a modified, or slightly different approach at lower cost is justified?

5. Are there regulations that unnecessarily obstruct, delay, curtail, or otherwise impose significant costs on the siting, permitting, or delivery of energy infrastructure projects?

6. Does DOI currently collect information that it does not need or use effectively?

7. Are there regulations that are unnecessarily complicated or could be streamlined to achieve statutory obligations in more efficient ways? If so, what changes should be made?

8. Are there regulations that have been overtaken by technological developments? Can new technologies be leveraged to modify, streamline, or rescind existing regulations?

9. Are there any DOI regulations that are inconsistent with E.O.s 14151, 14154, 14168, 14213, or other E.O.s or directives issued by the President, including those described earlier in this RFI? If so, what modifications would ensure consistency with the orders and applicable law?

DOI notes that this RFI is issued solely for informational and program-planning purposes. While responses to this RFI do not bind DOI to any further actions related to the response, all submissions will be made publicly available on https://www.regulations.gov.

Gregory Zerzan,
Acting Solicitor.

[FR Doc. 2025-08931 Filed 5-16-25; 8:45 am]

BILLING CODE 4334-CC-P